DEPARTMENT OF DEFENSE

Office of the Secretary

Submission for OMB Review; Comment Request

ACTION: Notice.

The Department of Defense has submitted to OMB for clearance, the following proposals for collection of information under the provisions of the Paperwork Reduction Act (44 U.S.C. Chapter 35).

DATES: Consideration will be given to all comments received by September 30, 2002.

Title OMB Number: Air Force Recruiting Information Support System (AFRISS); OMB Number 0701-[New Collection].

Type of Request: New collection.

Number of Respondents: 1,300,000.

Responses Per Respondent: 1.

Annual Responses: 1,300,000.

Average Burden Per Response: 64 minutes.

Annual Burden Hours: 1,386,413.

Needs and Uses: Air Force Recruiting Service requires the collection of specific information on prospective Air Force enlistees entering the Air Force. The information is used to create the initial personnel record, prescreen, and qualify enlistees fit for service and ultimately induction. The information is also collected to process security clearances and to record metrics to be used for demographics/market research and system performance. AFRISS provides comprehensive integration, interface, and standardization of all programs that manage personnel resources in support of Air Force recruiting. The system extends automated capabilities out to the individual recruiter, flight, squadron, and groups. It provides an automated interface to the Military Entrance Processing Center Station (MEPS) where applicants undergo physical evaluation, testing, verification interviews, and tentative job reservation. It will provide an automated interface to the Modernized Military Personnel System (MilMod) where only pertinent and required applicant information is placed in a permanent military system of record. It also provides reporting capabilities at all levels of Air Force Recruiting management to make informed decisions on recruiting business rules and practice to increase the number of accessions.

Affected Public: Individuals or households.

Frequency: On occasion.

Respondent's Obligation: Voluntary.

OMB Desk Officer: Ms. Jackie Zeiher.

Written comments and recommendations on the proposed information collection should be sent to Ms. Zeiher at the Office of Management and Budget, Desk Officer for DoD, Room 10236, New Executive Office Building, Washington, DC 20503.

DoD Clearance Officer: Mr. Robert Cushing.

Written requests for copies of the information collection proposal should be sent to Mr. Cushing, WHS/DIOR, 1215 Jefferson Davis Highway, Suite 1204, Arlington, VA 22202-4302.

Dated: August 26, 2002.
Patricia L. Toppings,
Alternate OSD Federal Register Liaison Officer, Department of Defense.

[FR Doc. 02-22136 Filed 8-29-02; 8:45 am]

BILLING CODE 5001-08-M